MILLENNIUM CHALLENGE CORPORATION

[MCC FR 05-08]

Notice of Entering Into a Compact With the Government of Honduras

AGENCY: Millennium Challenge Corporation.

ACTION: Notice.

SUMMARY: In accordance with Section 610(b)(2) of the Millennium Challenge Act of 2003 (Pub. L. 108-199, Division D), the Millennium Challenge Corporation is publishing a detailed summary and text of the Millennium Challenge Compact between the United States of America, acting through the Millennium Challenge Corporation, and the Government of the Republic of Honduras. Representatives of the United States Government and the Republic of Honduras executed the Compact documents on June 13, 2005.

Dated: June 17, 2005.
Maura E. Griffin,
Acting General Counsel, Millennium Challenge Corporation.

BILLING CODE 9210-01-P

[FR Doc. 05-12495 Filed 6-23-05; 8:45 am]

BILLING CODE 9210-01-C